DEPARTMENT OF EDUCATION

Final Priority: Disability and Rehabilitation Research Projects and Centers Program; Disability Rehabilitation Research Project; Employment of Individuals With Disabilities

AGENCY: Office of Special Education and Rehabilitative Services, Department of Education.

ACTION: Notice.

Overview Information

CFDA Number: 84.133A-1.

Final Priority; National Institute on Disability and Rehabilitation Research (NIDRR)—Disability and Rehabilitation Research Projects and Centers Program—Disability Rehabilitation Research Project (DRRP)—Employment of Individuals With Disabilities

SUMMARY: The Assistant Secretary for Special Education and Rehabilitative Services announces a priority for the Disability and Rehabilitation Research Projects and Centers Program administered by the National Institute on Disability and Rehabilitation Research (NIDRR). Specifically, this notice announces a priority for Employment of Individuals with Disabilities. The Assistant Secretary may use this priority for a competition in fiscal year (FY) 2012 and later years. We take this action to focus research attention on areas of national need.

DATES: Effective Date: This priority is effective August 9, 2012.

FOR FURTHER INFORMATION CONTACT: Lynn Medley, U.S. Department of Education, 400 Maryland Avenue SW., room 5140, Potomac Center Plaza (PCP), Washington, DC 20202-2700. Telephone: (202) 245-7338 or by email: lynn.medley@ed.gov.

If you use a telecommunications device for the deaf (TDD) or a text telephone (TTY), call the Federal Relay Service (FRS), toll free, at 1-800-877-8339.

SUPPLEMENTARY INFORMATION: This notice of final priority (NFP) is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice announces a final priority that NIDRR intends to use for a DRRP competition in FY 2012 and possibly later years. However, nothing precludes NIDRR from publishing additional priorities, if needed. Furthermore, NIDRR is under no obligation to make an award for this priority. The decision to make an award will be based on the quality of applications received and available funding.

Purpose of Program

The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Disability and Rehabilitation Research Projects (DRRPs)

The purpose of DRRPs, which are funded under NIDRR's Disability and Rehabilitation Research Projects and Centers Program, is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. Additional information on DRRPs can be found at: http://www2.ed.gov/rschstat/research/pubs/res-program.html#DRRP.

Program Authority: 29 U.S.C. 762(g) and 764(a).

Applicable Program Regulations: 34 CFR part 350.

We published a notice of proposed priority for this program in the Federal Register on April 26, 2012 (77 FR 24934). That notice contained background information and our reasons for proposing the particular priority. Public Comment: In response to our invitation in the notice of proposed priority, four parties submitted comments on the proposed priority.

Generally, we do not address technical and other minor changes. In addition, we do not address general comments that raised concerns not directly related to the proposed priority.

Analysis of Comments and Changes: An analysis of the comments and of any changes in the priority since publication of the notice of proposed priority follows.

Comment: One commenter—in reference to paragraph (a)(1)(i) of the priority, which addresses “the impact of government policies and programs on employment outcomes of individuals with disabilities,”—noted that much is already known about the impact of government policy on disability employment outcomes and the work disincentives that are associated with income support and other disability benefits programs. This commenter recommended that we sharpen this research priority area to focus on policies that may encourage more people with disabilities to choose work.

Discussion: NIDRR understands that there is a strong and growing research literature related to the relationship between income support programs and work outcomes for individuals with disabilities. NIDRR developed the priority area on the “impact of government policies and programs on employment outcomes for individuals with disabilities” to be purposefully broad. There are a wide variety of policies and programs that may influence employment outcomes, including policies that may encourage individuals with disabilities to choose work. Applicants are free to propose research on policies that encourage more people with disabilities to choose work. However, NIDRR does not wish to preclude applicants from proposing research on a wide variety of potential policies and programs that may influence employment outcomes by focusing this priority area too narrowly.

Change: None.

Comment: One commenter suggested that research under this priority should focus on programs and policies that affect employment outcomes of individuals with disabilities. This commenter noted that research should focus not just on one policy but on the broader system of programs and policies that could influence employment outcomes. This commenter also noted that research under this priority should examine the extent to which policies and programs have different effects on the employment outcomes of individuals in different disability groups.

Discussion: The priority does not limit the research to examination of one policy. An applicant may propose to examine the broader system of programs and policies that could have an impact on employment outcomes. An applicant may also propose research on the extent to which policies and programs have different effects on the employment outcomes of individuals in different disability groups.

Change: None.

Comment: One commenter suggested that NIDRR specifically focus this priority on research that examines employment outcomes that are more complex than measuring whether individuals with disabilities obtain a job. This commenter specifically suggested a focus on outcomes related to employment of people with disabilities over the life span and on outcomes that measure the quality of employment. This commenter suggested that employment outcomes over the life span may be measured quantitatively by assessing the amount of time spent in the work force and that employment quality can be measured by type of job, earnings, job satisfaction, and advancement along a career trajectory.

Discussion: NIDRR agrees that employment outcomes for people with disabilities—like employment oucomes for all people—can be measured in a variety of ways. The introductory paragraph of this priority focuses on a broad range of outcomes, including “increased employment rates, as well as hours of paid work, earnings and other compensation for individuals with disabilities as well as improved job and career satisfaction and other work-related outcomes for individuals with disabilities.” Nothing in the priority precludes applicants from proposing to conduct research on employment outcomes over the life span, outcomes related to employment quality, or other similar outcomes. NIDRR does not wish to preclude applicants from proposing research on a wide variety of employment outcomes by limiting the priority to the types of outcomes that are suggested by the commenter.

Change: None.

Comment: In reference to paragraph (a)(2) of the proposed priority, one commenter noted that five-year research projects under this priority may potentially include more than one of the four stages of research defined in the priority. This commenter asked whether applicants must propose research in just one stage of research or whether they can can propose research that progresses through more than one stage of research.

Discussion: The proposed priority would have required an applicant to focus research on only one stage of research. NIDRR agrees that a grantee under this priority should have the flexibility to include research that spans more than one stage of research.

Change: We have modified paragraph (a)(2) to allow an applicant to focus its research on more than one stage of research. However, if the applicant's research covers multiple stages of research, the applicant must clearly specify each stage of research. Also, we have modified paragraph (b)(3) to indicate that if the applicant proposes research that can be categorized under more than one of the defined research stages, or research that progresses from one stage to another, the applicant must clearly specify those stages and provide a rationale for each.

Comment: None.

Discussion: Proposed paragraph (a)(1) stated that applicants could propose to conduct research activities, development activities, or both to achieve the priority's intended outcomes. The selection criteria that are available to review NIDRR applications under 34 CFR 350.54 include specific criteria related to the “Design of Research Activities” (34 CFR 350.54(c)) and specific criteria related to the “Design of Development Activities” (34 CFR 350.54(d)). In order to review all applications with the appropriate criteria, and with the same distribution of possible points, we are requiring applicants to propose either research or development activities—but not both. Similarly, for ease in the review process, we are also requiring applicants to specify in the application whether they will be proposing to conduct research or development activities.

Change: NIDRR has modified paragraph (a)(1) of the priority to require the DRRP to conduct either research or development activities. NIDRR has also modified paragraph (b) of the priority to require applicants to identify whether they will be proposing to conduct research or development activities.

Final Priority

Priority—Employment of Individuals With Disabilities

The Assistant Secretary for Special Education and Rehabilitative Services announces a priority for a Disability and Rehabilitation Research Project (DRRP) on Employment of Individuals with Disabilities.

The DRRP must contribute to the outcomes of increased employment rates, hours of paid work, earnings and other compensation for individuals with disabilities as well as improved job and career satisfaction and other work-related outcomes for individuals with disabilities.

(a) To contribute to these outcomes, the DRRP must—

(1) Choose to conduct either research activities or development activities and carry out the chosen type of activity consistently throughout the grant, in one or more of the following priority areas:

(i) The impact of government policies and programs on employment outcomes for individuals with disabilities.

(ii) Employer practices and workplace environments that contribute to improved employment outcomes for individuals with disabilities.

(iii) Preparedness of individuals with disabilities to participate in the current and future workforce.

(iv) Technology (including the systems that develop, evaluate, and deliver the technology) that support improved employment outcomes of individuals with disabilities.

(v) Practices and policies that contribute to improved employment outcomes for transition-aged youth.

(vi) Vocational rehabilitation (VR) practices that result in improved employment outcomes for individuals with disabilities.

(2) If conducting research under paragraph (a)(1) of this priority, focus its research on a specific stage of research. If the DRRP is to conduct research that can be categorized under more than one stage, including research that progress from one stage to another, those stages must be clearly specified. For purposes of this priority, the stages of research are as follows:

(i) Exploration. Exploration means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration stage of research may also be used to inform decisions or priorities.

(ii) Intervention Development. Intervention Development means the stage of research that focuses on generating and testing interventions that have the potential to improve employment outcomes for individuals with disabilities. Intervention development involves determining the active components of possible interventions, developing measures that would be required to illustrate outcomes, specifying target populations, conducting field tests, and assessing the feasibility of conducting a well-designed interventions study. Results from this stage of research may be used to inform the design of a study to test the efficacy of an intervention.

(iii) Intervention Efficacy. Intervention efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(iv) Scale-Up Evaluation. Scale-up evaluation means the stage of research during which a project analyzes whether an intervention is effective in producing improved outcomes for individuals with disabilities when implemented in a real-world setting. During this stage of research, a project tests the outcomes of an evidence-based intervention in different settings. It examines the challenges to successful replication of the intervention, and the circumstances and activities that contribute to successful adoption of the intervention in real-world settings. This stage of research may also include well-designed studies of an intervention that has been widely adopted in practice, but that lacks a sufficient evidence-base to demonstrate its effectiveness.

(3) Conduct knowledge translation activities (i.e., training, technical assistance, utilization, dissemination) in order to facilitate stakeholder (e.g., individuals with disabilities, employers, policymakers, practitioners) use of the interventions, programs, technologies, or products that resulted from the research activities, development activities, or both, conducted under paragraph (a)(1) of this priority;

(4) Involve key stakeholder groups in the activities conducted under paragraphs (a)(1) and (a)(2) of this priority in order to maximize the relevance and usability of the interventions, programs, technologies, or products to be developed or studied under this priority.

(b) In its application, an applicant must describe how its proposed project will meet this priority. In particular, the applicant must—

(1) Identify, in its application, the priority area or areas on which its proposed research or development activities will focus; and

(2) Identify, in its application, whether it is proposing to conduct research or development activities.

(3) If conducting research under paragraph (a)(1) of this priority, identify and provide a rationale for the stage of research being proposed and the research methods associated with the stage. If the applicant proposes research that can be categorized under more than one of these research stages, or research that progresses from one stage to another, the applicant must clearly specify those stages and provide a rationale for each.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Summary of Potential Costs and Benefits

The benefits of the Disability and Rehabilitation Research Projects and Centers Programs have been well established over the years in that similar projects have been completed successfully. This final priority will generate new knowledge through research and development.

Another benefit of the final priority is that establishing new DRRPs will improve the lives of individuals with disabilities. The new DRRPs will provide support and assistance for NIDRR grantees as they generate, disseminate, and promote the use of new information that will improve the options for individuals with disabilities to perform regular activities of their choice in the community.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: July 5, 2012.
Alexa Posny,
Assistant Secretary for Special Education and Rehabilitative Services.

[FR Doc. 2012-16835 Filed 7-9-12; 8:45 am]

BILLING CODE 4000-01-P